DEPARTMENT OF HOMELAND SECURITY

Coast Guard

33 CFR Part 117

[Docket No. USCG-2014-0744]

Drawbridge Operation Regulations; Port Allen Canal, LA

AGENCY: Coast Guard, DHS.

ACTION: Notice of temporary deviation from regulations.

SUMMARY: The Coast Guard has issued a temporary deviation from the regulation governing the operation of the Union Pacific Railroad Bridge across the Port Allen Canal, mile 8.7 (Gulf Intracoastal Canal, Morgan City to Port Allen (Alternate Route), mile 56.0), near Morley, West Baton Rouge Parish, Louisiana. This deviation allows the bridge to remain closed to navigation for five hours on three consecutive days. The deviation is necessary to conduct maintenance and install new track panels on the bridge.

DATES: This deviation is effective from 7 a.m. on Tuesday September 9, 2014 through noon on Thursday, September 11, 2014.

ADDRESSES: The docket for this deviation, [USCG-2014-0744] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard; telephone 504-671-2128, email David.M.Frank@uscg.mil. If you have questions on viewing the docket, call Cheryl F. Collins, Program Manager, Docket Operations, telephone 202-366-9826.

SUPPLEMENTARY INFORMATION: The Union Pacific Railroad Company has requested a temporary deviation in order to conduct maintenance and install track panels on the Union Pacific Railroad Vertical Lift Span Bridge across the Port Allen Canal, mile 8.7 (Gulf Intracoastal Canal, Morgan City to Port Allen (Alternate Route), mile 56.0), near Morley, West Baton Rouge Parish, Louisiana. This temporary deviation will allow the bridge to remain in the closed-to-navigation position from 7 a.m. to noon from Tuesday, September 9, 2014, until Thursday, September 11, 2014.

The bridge has a vertical clearance of 7 feet above mean high water in the closed-to-navigation position and 73 feet above mean high water in the open-to-navigation position. Navigation on the waterway consists mainly of tugs with tows. Alternate routes are not readily available. The bridge owner can open the bridge in case of an emergency. The repairs are necessary for continued safe operation of the draw span.

Due to prior experience, as well as coordination with waterway users, it has been determined that this closure will not have a significant effect on these vessels.

In accordance with 33 CFR 117.35, the bridge must return to its regular operating schedule immediately at the end of the effective period of this temporary deviation.

This deviation from the operating regulations is authorized under 33 CFR 117.35.

Dated: August 18, 2014.
David M. Frank,
Bridge Administrator.

[FR Doc. 2014-20542 Filed 8-28-14; 8:45 am]

BILLING CODE 9910-04-P